DEPARTMENT OF TRANSPORTATION

Federal Aviation Administration

14 CFR Part 73

[Docket No. FAA-2011-0055; Airspace Docket No. 11-AAL-2]

Amendment to Special Use Airspace Restricted Areas R-2203, and R-2205; Alaska

AGENCY: Federal Aviation Administration (FAA), DOT.

ACTION: Final rule; technical amendment.

SUMMARY: This action amends the using agency of Restricted Areas R-2203 A, B, & C; Eagle River, AK, and R-2205, Stuart Creek, AK. These changes reflect the U.S. Army's current organization in Alaska. There are no changes to the boundaries, designated altitudes, time of designation, or activities conducted within the affected restricted areas.

DATES: Effective Date 0901 UTC, May 5, 2011.

FOR FURTHER INFORMATION CONTACT: Ken McElroy, Airspace, Regulations and ATC Procedures Group, Office of Mission Support Services, Federal Aviation Administration, 800 Independence Avenue, SW., Washington, DC 20591; telephone: (202) 267-8783.

SUPPLEMENTARY INFORMATION:

The Rule

This action amends Title 14 Code of Federal Regulations (14 CFR) part 73 by changing the R-2203 and R-2205 using agency of Special Use Airspace to, “U.S. Army, AK (USARAK), Commanding General, Fort Richardson, AK”. This is an administrative change and does not affect the boundaries, or operating requirements of the airspace, therefore, notice and public procedures under 5 U.S.C. 533(b) is unnecessary.

Section 73.22 of Title 14 CFR part 73 was republished in FAA Order 7400.8S, effective February 16, 2010.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends Restricted Areas in Alaska.

Environmental Review

The FAA has determined that this action qualifies for categorical exclusion under the National Environmental Policy Act in accordance with 311d, FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. Section 73.22 is amended as follows:

* * * * *

R-2203A Eagle River, AK [Amended]

By removing the existing Using Agency information and substituting the following:

Using agency. U.S. Army, AK (USARAK), Commanding General, Fort Richardson, AK.

R-2203B Eagle River, AK [Amended]

By removing the existing Using Agency information and substituting the following:

Using agency. U.S. Army, AK (USARAK), Commanding General, Fort Richardson, AK.

R-2203C Eagle River, AK [Amended]

By removing the existing Using Agency information and substituting the following:

Using agency. U.S. Army, AK (USARAK), Commanding General, Fort Richardson, AK.

* * * * *

R-2205 Stuart Creek, AK [Amended]

By removing the existing Using Agency information and substituting the following:

Using agency. U.S. Army, AK (USARAK), Commanding General, Fort Richardson, AK.

Issued in Washington, DC, on March 2, 2011.
Rodger A. Dean,
Acting Manager, Airspace, Regulations and ATC Procedures Group.

[FR Doc. 2011-5246 Filed 3-7-11; 8:45 am]

BILLING CODE 4910-13-P